DEPARTMENT OF THE INTERIOR

Bureau of Land Management

ES-930-01-1300-241A: MSES 46775, MSES 46780, MSES 46782, MSES 46788, MSES 46798, MSES 46800, MSES 46803, MSES 46806, MSES 46809 MSES 47871, MSES 48069, MSES 48070 and MSES 48071; Notice of Proposed Reinstatement of Terminated Oil and Gas Leases

AGENCY: Bureau of Land Management, Interior.

ACTION: Notice.

SUMMARY: Per Public Law 97-451, the lessees timely filed a petition for reinstatement of oil and gas leases MSES 46775, MSES 46780, MSES 46782, MSES 46788, MSES 46798, MSES 46800, MSES 46803, MSES 46806, MSES 46809 MSES 47871, MSES 48069, MSES 48070 and MSES 48071, Wayne and Jones Counties, Mississippi. The lessee paid the required rentals accruing from the date of termination.

The Bureau of Land Management has not issued any leases affecting the lands. The lessee paid the $500 administration fee for the reinstatement of each lease. The lessee has met the requirements for reinstatement of the leases per Sec. 31(d) and (e) of the Mineral Leasing Act of 1920 (30 U.S.C. 188). We are proposing to reinstate the leases, effective the date of termination, subject to:

• The original terms and conditions of the leases;

• The increased rental of $5 per acre (Non Competitive)

• The increased rental of $10 per acre (Competitive Leases);

• The increased royalty rate of 16⅔ percent of 4 percentages above the existing competitive royalty rate;

• The $158 cost of publishing this Notice.

FOR FURTHER INFORMATION CONTACT: Ida V. Doup, Chief, Branch of Use Authorization, Division of Resources, Planning, Use and Protection, BLM Eastern States Office, 7450 Boston Boulevard, Springfield, Virginia 22153, (703) 440-1541.

Dated: November 30, 2001.
Ida V. Doup,
Chief, Branch of Use Authorization, Division of Resources Planning, Use and Protection.

[FR Doc. 01-31401 Filed 12-20-01; 8:45 am]

BILLING CODE 4310-HC-M